ENVIRONMENTAL PROTECTION AGENCY

40 CFR Part 300

[EPA-HQ-SFUND-1989-0011; FRL-9999-01-Region 7]

National Oil and Hazardous Substances Pollution Contingency Plan; National Priorities List: Deletion of the Electro-Coatings, Inc. Superfund Site

AGENCY: Environmental Protection Agency (EPA).

ACTION: Final rule.

SUMMARY: The Environmental Protection Agency (EPA) Region 7 announces the deletion of the Electro-Coatings, Inc. Superfund Site (Site) located at 911 Shaver, Cedar Rapids, Iowa, from the National Priorities List (NPL). The NPL, promulgated pursuant to section 105 of the Comprehensive Environmental Response, Compensation, and Liability Act (CERCLA) of 1980, as amended, is an appendix of the National Oil and Hazardous Substances Pollution Contingency Plan (NCP). The EPA and the State of Iowa, through the Iowa Department of Natural Resources, have determined that all appropriate response actions under CERCLA have been completed. However, this deletion does not preclude future actions under Superfund.

DATES: This action is effective September 12, 2019.

ADDRESSES:

Docket: The EPA has established a docket for this action under Docket Identification No. EPA-HQ-SFUND-1989-0011. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are:

EPA Region 7 Records Center, 11201 Renner Boulevard, Lenexa, Kansas 66219, between 8 a.m. to 4 p.m. Monday through Friday, excluding Federal holidays; and the Cedar Rapids Downtown Public Library, located at 450 Fifth Avenue SE, Cedar Rapids, Iowa 52401, between 9 a.m. to 8 p.m. Monday through Thursday, between 9 a.m. to 5 a.m. Friday and Saturday, and between 1 p.m. to 5 p.m. on Sunday.

FOR FURTHER INFORMATION CONTACT: Amer Safadi, Remedial Project Manager, U.S. Environmental Protection Agency, Region 7, 11201 Renner Boulevard, Lenexa, Kansas 66219. Phone: (913) 551-7825. Email: safadi.amer@epa.gov.

SUPPLEMENTARY INFORMATION: The site to be deleted from the NPL is: Electro-Coatings, Inc., Cedar Rapids, Iowa. A Notice of Intent to Delete for this Site was published in the Federal Register (84 FR 33046) on July 11, 2019.

The closing date for comments on the Notice of Intent to Delete was August 12, 2019. One public comment was received. The comment indicated that the EPA should report to the public the activities conducted to cleanup the Site and what will continue to be conducted to protect the public health and the environment, including reporting costs incurred and estimates of future costs. The EPA's response is that included in the docket were reports of the activities conducted at the Site including, the NOID, the FCOR, the latest Five-year review, and others. The docket also included the Remedial Action report, which included the requested available costs. The EPA believes the deletion action has been conducted in accordance with CERCLA and the NCP, therefore the deletion of the Site from the NPL is appropriate. A responsiveness summary was prepared and placed in both the docket, EPA-HQ-SFUND-1989-0011, on www.regulations.gov, and in the local repositories listed above.

The EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Dated: September 3, 2019.
James Gulliford,
Regional Administrator, Region 7.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—National Priorities List

2. Table 1 of Appendix B to part 300 is amended by removing the entry “IA, Electro-Coatings, Inc., Cedar Rapids”.

[FR Doc. 2019-19654 Filed 9-11-19; 8:45 am]

BILLING CODE 6560-50-P